DEPARTMENT OF STATE

[Public Notice 6459]

Bureau of Educational and Cultural Affairs (ECA) Request for Grant Proposals: Three Summer Institutes for 2009, Including a Summer Institute for Norwegian Students in the Sciences, a Summer Institute for European Student Leaders, and a Summer Institute for European Student Leaders in Education

Announcement Type: Three new Cooperative Agreements.

Funding Opportunity Number: ECA/A/E/EUR 09-05.

Catalog of Federal Domestic Assistance Number: 00.000.

Key Dates: April 1, 2009-July 1, 2010.

Application Deadline: February 26, 2009.

Executive Summary: The Office of Academic Exchange Programs, European and Eurasian Programs Branch (ECA/A/E/EUR) announces an open competition for three (3) Summer Institutes for European undergraduate students to take place during the summer of 2009. The Institutes vary in focus, the number of participants, length, timing, and funding. Accredited, post-secondary educational institutions in the United States may submit proposals to administer one or more of the Institute programs. Institutions must submit separate proposals for each Institute. All Institutes will be funded in FY2009 pending the availability of funds.

I. Funding Opportunity Description

Authority: Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Purpose of each Summer Institute: Please refer to the Project Objectives, Goals, and Implementation (POGI) document for a complete program description for all three Institutes.

The Summer Institute for Norwegian Students in the Sciences will introduce twelve (12) undergraduate students who have completed at least two years of university studies in the natural sciences at Norwegian institutions to the scientific research being conducted on the polar regions. Proposals should interweave the themes and issues being examined by the International Polar Year (IPY) program into the Institute plan. For example, topics covered in the academic program may include climate change, the influence of the polar regions on the global system, community and environmental sustainability in the polar regions, and and/or other issues being examined by the IPY program.

The six-week Institute is also intended to introduce Norwegian students to the U.S. university classroom and lab, campus life, and offer them opportunities to interact with their U.S. peers.

The U.S.-Norway Fulbright Commission for Educational Exchange will recruit and nominate the participants. The Institute will take place during a six-week period between late June and mid-August, preferably July 5-August 15, 2009. Funding for this Institute will be up to $200,000, pending the availability of FY2009 funds.

Guidelines: The program should be designed to support the following components:

(a) An academic program that focuses on polar studies, with particular relevance to the circumpolar region, also known as the “High North”. The academic program can be a mix of lectures, seminars, and/or special projects and should include lab and/or field research at the host institution or other sites.

(b) A cultural component that allows participants to explore their host city and region and have full participation in campus life at the host institution.

(c) It is anticipated that all participants will be fluent in English. However, the host institution should be prepared to offer English language support as necessary.

(d) A U.S. peer mentor component. The host institution should retain three (3) qualified upper division or graduate U.S. students majoring in science who exhibit cultural sensitivity and an understanding of the Institute's objectives to accompany the participants throughout the academic and cultural components of the program.

2. The Summer Institute for European Student Leaders will offer a group of twenty-four (24) European undergraduate students from a broad range of ethnic, religious and socio-economic backgrounds the opportunity to learn about the United States and build leadership skills during a five-week program on an American campus. The Fulbright Commissions in Denmark, France, the Netherlands, Norway, Portugal, Spain, Sweden, and the United Kingdom will recruit participants who are first- or second-year undergraduate students or recent high school graduates who will enter university in fall 2009. The Institute will promote study and learning about the United States, civic engagement, and leadership development through academic coursework and participatory activities that will serve the participants in their academic and professional careers and to promote mutual understanding between the United States and their home countries. ECA anticipates that the five-week Institute will begin mid-July 2009. Funding for this Institute will be up to $215,000, pending the availability of FY 2009 funds.

Guidelines: The program should be designed to support the following components:

(a) An academic program that will introduce participants to the important events, people, and documents that have shaped the United States and contemporary American life. The host institution is encouraged to identify or develop an academic course that Institute participants can take together with American students at the university.

(b) A cultural component that complements and reinforces the academic component. Activities should include visits to historical and cultural sites of interest and participation in extra-curricular activities that will allow an optimal level of interaction with American peers. This component should include plans for participants to be engaged in a community service activity one to two hours per week.

(c) An English language component designed to strengthen the English proficiency of all participants. While all program activities should aim to promote English-language learning, preparations should be in place to assist students through one-on-one or small group tutorials. The tutorials should be held several times a week throughout the duration of the Institute and will be mandatory for those participants deemed to require additional language instruction based on their English language assessment.

(d) A U.S. peer mentor program. The host institution should retain four qualified upper division or graduate U.S. students who exhibit cultural sensitivity and an understanding of the Institute's objectives to serve as cultural interpreters and accompany the participants throughout the program. The mentors should reside in the dormitories or other campus housing with the participants.

Applicants should take into account that the participants may not be familiar with the American student-centered classroom approach and will have varying degrees of experience in expressing their opinions in a classroom environment. In this respect, all aspects of the Institute program should be designed to encourage the students to interact with each other and American counterparts.

3. The Summer Institute for European Student Leaders in Education will offer a group of twelve (12) European undergraduate students from a broad range of ethnic, religious and socio-economic backgrounds the opportunity to learn about the U.S. system of education at the primary, secondary and higher education levels through an integrated and uniquely designed program that focuses on the U.S. education system, American pedagogical practices, U.S. education policy, the openness of the U.S. higher education system, and integration and diversity in American schools. Participants will have completed at least two years of university studies in an education-related field. Recruitment and nomination of the participants will be managed by the Fulbright Commission in France, Germany, Spain, and the United Kingdom. ECA anticipates that the five-week Institute will begin mid-July 2009. Funding for the Education Institute will be up to $110,000, pending the availability of FY 2009 funds.

Guidelines: The program should be designed to support the following components:

(a) An academic program that will introduce participants to the U.S. system of education as described above, while interweaving the perspectives, experiences and current challenges facing the local educational system wherever appropriate. A component focused on familiarizing the participants with the United States should also be included that will require the students to explore key documents and important events and periods that have shaped the United States.

(b) A cultural component that complements and reinforces the academic component. Activities should include visits to schools, historical, and cultural sites of interest. This component should include plans for participants to be engaged in a community service activity one to two hours per week.

(c) An English language component designed to strengthen the English proficiency of all participants. While all program activities should aim to promote English-language learning, preparations should be in place to assist students through one-on-one or small group tutorials. The one-on-one and/or small group tutorials should be held several times a week throughout the duration of the Institute and will be mandatory for those participants deemed to require additional language instruction based on their English language assessment.

(d) A U.S. peer mentor program. The host institution should retain three (3) qualified upper division or graduate U.S. students who exhibit cultural sensitivity and an understanding of the Institute's objectives to serve as cultural interpreters and accompany the participants throughout the program.

Each of the three Institutes will be funded through a Cooperative Agreement. Please note that in a Cooperative Agreement, ECA/A/E/EUR is substantially involved in program activities above and beyond routine monitoring. ECA/A/E/EUR's activities and responsibilities for all three Institutes are as follows:

○ ECA will select participants who are nominated by the participating Fulbright Commissions.

○ ECA will facilitate sending pre-arrival orientation materials electronically to participants via the participating Fulbright Commissions.

○ ECA will enroll all participants in the Accident and Sickness and Sickness Program for Exchanges (ASPE). This health benefits program will be of no cost to the host institutions. The host institutions will be responsible for the co-pays for medical treatment.

○ ECA will issue DS-2019s for the participants to enter the United States on J-visas.

○ ECA will organize debriefing sessions in Washington, DC, at the conclusion of the Institutes. All costs for the debriefing (travel to Washington, lodging, meals) will be the responsibility of the host institution and should be included in the proposal budget.

○ ECA will provide the host institution with biographical information about the participants and their travel itineraries.

Proposal Contents: Applicants should submit a complete and thorough proposal describing the Institute in a convincing and comprehensive manner. Please clearly indicate which Institute the proposal is being submitted for. Since there is no opportunity for applicants to meet with reviewing officials, the proposal should respond to the criteria set forth in the solicitation and other guidelines as clearly as possible.

II. Award Information

Type of Awards: Cooperative Agreements.

Fiscal Year Funds: 2009.

Approximate Total Funding:

Summer Institute for Norwegian Students in the Sciences: $200,000.

Summer Institute for European Student Leaders: $215,000.

Summer Institute for European Student Leaders in Education: $110,000.

Approximate Number of Awards: 3.

Anticipated Award Date: April 1, 2009.

Anticipated Project Completion Date: July 1, 2010.

Additional Information: Pending successful implementation of each program and the availability of funds in subsequent fiscal years, it is ECA's intent to renew the cooperative agreement for the Summer Institute for European Student Leaders and Summer Institute for European Student Leaders in Education for two additional fiscal years, before openly competing them again. Please note that at this time, the Summer Institute for Norwegian Students in the Sciences is a one-time opportunity.

III. Eligibility Information

III.1. Eligible applicants: Applications may be submitted by public and private non-profit organizations meeting the provisions described in Internal Revenue Code section 26 U.S.C. 501(c)(3).

III.2. Cost Sharing or Matching Funds: There is no minimum or maximum percentage required for this competition. However, the Bureau encourages applicants to provide maximum levels of cost sharing and funding in support of its programs.

When cost sharing is offered, it is understood and agreed that the applicant must provide the amount of cost sharing as stipulated in its proposal and later included in an approved grant agreement. Cost sharing may be in the form of allowable direct or indirect costs. For accountability, you must maintain written records to support all costs which are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements:

(a) Bureau grant guidelines require that organizations with less than four years experience in conducting international exchanges be limited to $60,000 in Bureau funding. ECA anticipates awarding three cooperative agreements, all in an amount excessive of $60,000 to support program and administrative costs required to implement this exchange program. Therefore, organizations with less than four years experience in conducting international exchanges are ineligible to apply under this competition. The Bureau encourages applicants to provide maximum levels of cost sharing and funding in support of its programs.

(b) Accredited, post-secondary educational institutions in the United States may submit proposals to administer one or more of the Institute programs but must submit separate proposals for each Institute.

IV. Application and Submission Information

Note: Please read the complete announcement before sending inquiries or submitting proposals. Once the RFGP deadline has passed, Bureau staff may not discuss this competition with applicants until the proposal review process has been completed.

IV.1 Contact Information To Request an Application Package: Please contact the Office of Academic Exchange Programs, European and Eurasian Programs, U.S. Department of State, SA-44, 301 4th Street, SW., Washington, DC 20547, 202-453-8524 to request a Solicitation Package. Please refer to the Funding Opportunity Number ECA/A/E/EUR 09-05 located at the top of this announcement when making your request. Alternatively, an electronic application package may be obtained from grants.gov. Please see section IV.3f for further information.

The Solicitation Package contains the Proposal Submission Instruction (PSI) document which consists of required application forms, and standard guidelines for proposal preparation.

It also contains the Project Objectives, Goals and Implementation (POGI) document, which provides specific information, award criteria and budget instructions tailored to this competition.

Please specify Carolina Chavez, Program Officer, and refer to the Funding Opportunity Number (ECA/A/E/EUR 09-05) located at the top of this announcement on all other inquiries and correspondence.

IV.2. To Download a Solicitation Package Via Internet: The entire Solicitation Package may be downloaded from the Bureau's Web site at http://exchanges.state.gov/grants/open2.html, or from the Grants.gov Web site at http://www.grants.gov.

Please read all information before downloading.

IV.3. Content and Form of Submission: Applicants must follow all instructions in the Solicitation Package. The application should be submitted per the instructions under IV.3f. “Application Deadline and Methods of Submission” section below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget. Please Refer to the Solicitation Package. It contains the mandatory Proposal Submission Instructions (PSI) document and the Project Objectives, Goals and Implementation (POGI) document for additional formatting and technical requirements.

IV.3c. You must have nonprofit status with the IRS at the time of application. Please note: Effective March 14, 2008, all applicants for ECA federal assistance awards must include with their application, a copy of page 5, Part V-A, “Current Officers, Directors, Trustees, and Key Employees” of their most recent Internal Revenue Service (IRS) Form 990, “Return of Organization Exempt From Income Tax.” If an applicant does not file an IRS Form 990, but instead files Schedule A (Form 990 or 990-EZ)—“Organization Exempt Under Section 501(c)(3),” applicants must include with their application a copy of Page 1, Part 1, “Compensation of the Five Highest Paid Employees Other Than Officers, Directors and Trustees,” of their most recent Internal Revenue Service (IRS) Form—Schedule A (Form 990 or 990-EZ).

If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1 Adherence to All Regulations Governing the J Visa

The Bureau of Educational and Cultural Affairs places critically important emphases on the security and proper administration of the Exchange Visitor (J visa) Programs and adherence by grantees and sponsors to all regulations governing the J visa. Therefore, proposals should demonstrate the applicant's capacity to meet all requirements governing the administration of the Exchange Visitor Programs as set forth in 22 CFR 62, including the oversight of Responsible Officers and Alternate Responsible Officers, screening and selection of program participants, provision of pre-arrival information and orientation to participants, monitoring of participants, proper maintenance and security of forms, record-keeping, reporting and other requirements. ECA will be responsible for issuing DS-2019 forms to participants in this program.

A copy of the complete regulations governing the administration of Exchange Visitor (J) programs is available at http://exchanges.state.gov or from: United States Department of State, Office of Exchange Coordination and Designation, ECA/EC/ECD—SA-44, Room 734, 301 4th Street, SW., Washington, DC 20547, Telephone: (202) 203-5029, FAX: (202) 453-8640.

Please refer to Solicitation Package for further information.

IV.3d.2 Diversity, Freedom and Democracy Guidelines

Pursuant to the Bureau's authorizing legislation, programs must maintain a non-political character and should be balanced and representative of the diversity of American political, social, and cultural life. “Diversity” should be interpreted in the broadest sense and encompass differences including, but not limited to, ethnicity, race, gender, religion, geographic location, socio-economic status, and disabilities. Applicants are strongly encouraged to adhere to the advancement of this principle both in program administration and in program content. Please refer to the review criteria under the ‘Support for Diversity' section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation

Proposals must include a plan to monitor and evaluate the project's success, both as the activities unfold and at the end of the program. The Bureau recommends that your proposal include a draft survey questionnaire or other technique plus a description of a methodology to use to link outcomes to original project objectives. The Bureau expects that the grantee will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Grantees will be required to provide reports analyzing their evaluation findings to the Bureau in their regular program reports. All data collected, including survey responses and contact information, must be maintained for a minimum of three years and provided to the Bureau upon request.

IV.3e. Please take the following information into consideration when preparing your budget:

IV.3e.1. Applicants must submit a comprehensive budget for the entire program. Budget requests may not exceed the amounts stated in Section I. There must be a summary budget as well as breakdowns reflecting both administrative and program budgets. Applicants may provide separate sub-budgets for each program component, phase, location, or activity to provide clarification.

IV.3f. Application Deadline and Methods of Submission:

Application Deadline Date: February 26, 2009.

Reference Number: ECA/A/E/EUR 09-05.

Methods of Submission: Applications may be submitted in one of two ways:

(1) In hard-copy, via a nationally recognized overnight delivery service (i.e., DHL, Federal Express, UPS, Airborne Express, or U.S. Postal Service Express Overnight Mail, etc.), or

(2) Electronically through http://www.grants.gov.

Along with the Project Title, all applicants must enter the above Reference Number in Box 11 on the SF-424 contained in the mandatory Proposal Submission Instructions (PSI) of the solicitation document.

IV.3f.1 Submitting Printed Applications

Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original and 6 copies of the application should be sent to: U.S. Department of State, SA-44, Bureau of Educational and Cultural Affairs, Ref.: ECA/A/E/EUR-09-05, Program Management, ECA/EX/PM, Room 534, 301 4th Street, SW., Washington, DC 20547.

Applicants submitting hard-copy applications must also submit the “Executive Summary” and “Proposal Narrative” sections of the proposal in a Microsoft Word format on a CD-ROM.

IV.3f.2—Submitting Electronic Applications

Applicants have the option of submitting proposals electronically through Grants.gov (http://www.grants.gov). Complete solicitation packages are available at Grants.gov in the “Find” portion of the system. Please follow the instructions available in the “Get Started” portion of the site (http://www.grants.gov/GetStarted).

Several of the steps in the Grants.gov registration process could take several weeks. Therefore, applicants should check with appropriate staff within their organizations immediately after reviewing this RFGP to confirm or determine their registration status with Grants.gov.

Once registered, the amount of time it can take to upload an application will vary depending on a variety of factors including the size of the application and the speed of your Internet connection. Therefore, we strongly recommend that you not wait until the application deadline to begin the submission process through Grants.gov.

Direct all questions regarding Grants.gov registration and submission to: Grants.gov Customer Support,

Contact Center Phone: 800-518-4726,

Business Hours: Monday—Friday, 7a.m.-9p.m. Eastern Time, E-mail: support@grants.gov.

Applicants have until midnight (12 a.m.), Washington, DC time of the closing date to ensure that their entire application has been uploaded to the Grants.gov site. There are no exceptions to the above deadline. Applications uploaded to the site after midnight of the application deadline date will be automatically rejected by the Grants.gov system, and will be technically ineligible.

Applicants will receive a confirmation e-mail from Grants.gov upon the successful submission of an application. ECA will not notify you upon receipt of electronic applications.

It is the responsibility of all applicants submitting proposals via the Grants.gov Web portal to ensure that proposals have been received by Grants.gov in their entirety, and ECA bears no responsibility for data errors resulting from transmission or conversion processes.

IV.3g. Intergovernmental Review of Applications: Executive Order 12372 does not apply to this program.

V. Application Review Information

V.1. Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for cooperative agreements resides with the Bureau's Grants Officer.

Review Criteria

Technically eligible applications will be competitively reviewed according to the criteria stated below. These criteria are not rank ordered and all carry equal weight in the proposal evaluation:

1. Quality of Program Idea/Plan: Your proposal should exhibit originality, substance, precision, and relevance to the Bureau's mission. Detailed agenda and relevant work plan should demonstrate substantive undertakings and logistical capacity.

2. Ability to Achieve Overall Program Objectives: Objectives should be reasonable, feasible, and flexible. Your proposal should clearly demonstrate how the institution will meet the program's objectives and plan.

3. Support for Diversity: Your proposal should demonstrate substantive support of the Bureau's policy on diversity. Achievable and relevant features should be cited in both program administration (selection of presenters, program venue and program evaluation) and program content (orientation and wrap-up sessions, program meetings and resource materials).

4. Evaluation and Follow-Up: Your proposal should include a plan to evaluate the activity's success, both as the activities unfold and at the end of the program. Your proposal should also discuss provisions made for follow-up with returned grantees as a means of establishing longer-term individual and institutional linkages.

5. Cost-effectiveness/Cost-sharing: The overhead and administrative components of the proposal, including salaries and honoraria, should be kept as low as possible. All other items should be necessary and appropriate. Your proposal should maximize cost-sharing through other private sector support as well as institutional direct funding contributions.

6. Institutional Track Record/Ability: Your proposal should demonstrate an institutional record of successful exchange programs, including responsible fiscal management and full compliance with all reporting requirements for past Bureau grants as determined by Bureau Grants Staff. The Bureau will consider the past performance of prior recipients and the demonstrated potential of new applicants. Proposed personnel and institutional resources should be fully qualified to achieve the project's goals.

VI. Award Administration Information

VI.1a. Award Notices

Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

VI.2 Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments”.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations

Please reference the following Web sites for additional information: http://www.whitehouse.gov/omb/grants; http://fa.statebuy.state.gov.

VI.3. Reporting Requirements

You must provide ECA with a hard copy original plus one copy of the following reports:

(1) A final program and financial report no more than 90 days after the expiration of the award;

(2) A concise, one-page final program report summarizing program outcomes no more than 90 days after the expiration of the award. This one-page report will be transmitted to OMB, and be made available to the public via OMB's USAspending.gov Web site—as part of ECA's Federal Funding Accountability and Transparency Act (FFATA) reporting requirements.

Grantees will be required to provide reports analyzing their evaluation findings to the Bureau in their regular program reports. (Please refer to IV. Application and Submission Instructions (IV.3.d.3) above for Program Monitoring and Evaluation information.

(3) A SF-PPR, “Performance Progress Report” Cover Sheet with all program reports.

All data collected, including survey responses and contact information, must be maintained for a minimum of three years and provided to the Bureau upon request.

All reports must be sent to the ECA Grants Officer and ECA Program Officer listed in the final assistance award document.

VII. Agency Contacts

For questions about this announcement, contact: Carolina Chavez, ECA/A/E/EUR, Room 246, ECA/A/E/EUR 09-05, U.S. Department of State, SA-44, 301 4th Street, SW., Washington, DC 20547, 202-453-8524, ChavezCC@state.gov.

All correspondence with the Bureau concerning this RFGP should reference the above title and number ECA/A/E/EUR 09-05.

Please read the complete announcement before sending inquiries or submitting proposals. Once the RFGP deadline has passed, Bureau staff may not discuss this competition with applicants until the proposal review process has been completed.

VIII. Other Information

Notice: The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Goli Ameri,
Assistant Secretary for Educational and Cultural Affairs, Department of State.

[FR Doc. E8-30128 Filed 12-17-08; 8:45 am]

BILLING CODE 4710-05-P